DEPARTMENT OF THE TREASURY

Internal Revenue Service

Open Meeting of Citizen Advocacy Panel, South Florida District

AGENCY: Internal Revenue Service (IRS), Treasury.

ACTION: Notice.

SUMMARY: An open meeting of the South Florida Citizen Advocacy Panel will be held in Key Largo, Florida.

DATES: The meeting will be held Friday, May 19, 2000 and Saturday, May 20, 2000.

FOR FURTHER INFORMATION CONTACT: Nancy Ferree at 1-888-912-1227 or 954-423-7973.

SUPPLEMENTARY INFORMATION: Notice is hereby given pursuant to Section 10(a)(2) of the Federal Advisory Committee Act, 5 U.S.C. App. (1988) that an open meeting of the Citizen Advocacy Panel will be held Friday, May 19, 2000 from 6 p.m. to 9 p.m. at the Key Largo Public Library, located in the Tradewinds Shopping Plaza, 101485 Overseas Highway, Rte 1, and Saturday, May 20, 2000 from 9 a.m. to noon in Westin Beach Key Largo Hotel, 97000 Overseas Highway, Key Largo, Florida.

The public is invited to make oral comments. Individual comments will be limited to 10 minutes. If you would like to have the CAP consider a written statement, please call 1-888-912-1227 or 954-423-7973, or write Nancy Ferree, CAP Office, 7771 W. Oakland Park Blvd. Rm. 225, Sunrise, FL 33351. Due to limited conference space, notification of intent to attend the meeting must be made with Nancy Ferree. Ms. Ferree can be reached at 1-888-912-1227 or 954-423-7973.

The Agenda will include the following: various IRS issue updates and reports by the CAP sub-groups.

Note: Last minute changes to the agenda are possible and could prevent effective advance notice.

Dated: April 21, 2000.
M. Cathy Vanhorn,
Director, CAP Communications & Liaison.

[FR Doc. 00-11048 Filed 5-2-00; 8:45 am]

BILLING CODE 4830-01-P